INTERNATIONAL TRADE COMMISSION

[Investigation No. 337-TA-1172]

Certain Filament Light-Emitting Diodes and Products Containing Same Notice of a Commission Determination Not To Review Two Initial Determinations Terminating the Investigation Based Upon Withdrawal of the Complaint; Termination of Investigation

AGENCY: U.S. International Trade Commission.

ACTION: Notice.

SUMMARY: Notice is hereby given that the U.S. International Trade Commission (“Commission”) has determined not to review two initial determinations (“IDs”) (Order Nos. 23 and 24) of the presiding administrative law judge (“ALJ”), which terminated the investigation as to certain respondents based upon withdrawal of the complaint (Order No. 23), and terminated the investigation in its entirety based upon withdrawal of the complaint (Order No. 24). The investigation is terminated.

FOR FURTHER INFORMATION CONTACT: Sidney A. Rosenzweig, Esq., Office of the General Counsel, U.S. International Trade Commission, 500 E Street SW, Washington, DC 20436, telephone (202) 708-2532. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on September 4, 2019, based on a complaint filed by The Regents of the University of California, of Oakland, California (“the University of California”). 84 FR 46564, 46564 (Sept. 4, 2019). The complaint alleges violations of section 337 of the Tariff Act of 1930, as amended (19 U.S.C. 1337), in the importation into the United States, in the sale for importation, or the sale within the United States after importation of certain filament light-emitting diodes and products containing same, by reason of the infringement of certain claims of U.S. Patent Nos. 7,781,789; 9,240,529; 9,859,464; and 10,217,916. Id. The complaint further alleges that a domestic industry exists. Id. The notice of investigation names as respondents Amazon.com, Inc. and Amazon.com Services, Inc., both of Seattle, Washington (collectively, “Amazon”); Bed Bath and Beyond Inc. of Union, New Jersey (“Bed Bath and Beyond”); IKEA of Sweden AB of Almhult, Sweden; IKEA Supply AG of Pratteln, Switzerland, as well as IKEA Distribution Services Inc. and IKEA North America Services, LLC, both of Conshohocken, Pennsylvania (collectively, “IKEA”); Target Corporation of Minneapolis, Minnesota (“Target”); and Walmart Inc. of Bentonville, Arkansas (“Walmart”). Id. The Office of Unfair Import Investigations was also named as a party. Id. The investigation has previously terminated as to Bed Bath and Beyond on the basis of settlement, Order No. 10 (Jan. 27, 2020), not reviewed, Notice (Feb. 25, 2020), and as to certain patent claims based on withdrawal of the complaint, Order No. 11 (Jan. 27, 2020), not reviewed, Notice (Feb. 25, 2020); Order No. 7 (Dec. 2, 2019), not reviewed, Notice (Dec. 20, 2019).

On February 28, 2020, the University of California moved to terminate the investigation as to Amazon, Target, and Walmart based upon withdrawal of the complaint. See 19 CFR 210.21(a). After resolving certain objections by the Commission investigative attorney, Amazon and IKEA, see Order No. 23 at 1-4, on April 27, 2020, the ALJ granted the motion as an ID (Order No. 23). Order No. 23 finds that the motion complies with Commission rules, id. at 4, and that there are no extraordinary circumstances for denying the motion, id. at 5.

On April 14, 2020, the University of California moved to terminate the investigation in its entirety based upon withdrawal of the complaint. See 19 CFR 210.21(a). On April 14, 2020, the Commission investigative attorney filed a response in support of the motion. No other responses were filed. On April 29, 2020, the ALJ granted the motion as an ID (Order No. 24). Order No. 24 finds that the motion complies with Commission rules and that there are no extraordinary circumstances for denying the motion. Order No. 24 at 3.

No petitions for review of Order No. 23 or Order No. 24 were filed.

The Commission has determined not to review the subject IDs.

The investigation is hereby terminated in its entirety.

The Commission vote for these determinations took place on May 20, 2020.

The authority for the Commission's determination is contained in section 337 of the Tariff Act of 1930, as amended (19 U.S.C. 1337), and in Part 210 of the Commission's Rules of Practice and Procedure (19 CFR part 210).

By order of the Commission.
Issued: May 20, 2020.
Lisa Barton,
Secretary to the Commission.

[FR Doc. 2020-11245 Filed 5-22-20; 8:45 am]

BILLING CODE 7020-02-P